DEPARTMENT OF ENERGY

Federal Energy Regulatory Commission

[Docket No. RP01-85-000]

Northern Border Pipeline Company; Notice of Compliance Filing

November 15, 2000.

Take notice that on November 9, 2000, Northern Border Pipeline Company (Northern Border) tendered for filing to become part of Northern Border's FERC Gas Tariff, First Revised Volume No. 1, the following tariff sheets to become effective December 1, 2000:

Third Revised Sheet Number 213

Fourth Revised Sheet Number 213A

Fourth Revised Sheet Number 215

Second Revised Sheet Number 217

Second Revised Sheet Number 268D

Original Sheet Number 268D.01

Original Sheet Number 268D.02

Original Sheet Number 268D.03

Second Revised Sheet Number 268E

Northern Border states that the purpose of this filing is to comply with the Commission's Order Nos. 587-G and 587-L and the Commission's Order on Filings to Establish Imbalance Netting and Trading Pursuant to Order Nos. 587-G and 587-L issued October 27, 2000 in Docket No. RM96-1-014 et al.

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Rules and Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29680 Filed 11-20-00; 8:45 am]

BILLING CODE 6717-01-M